DEPARTMENT OF TRANSPORTATION

Office of the Secretary

Notice of Applications for Certificates of Public Convenience and Necessity and Foreign Air Carrier Permits Filed Under Subpart B (Formerly Subpart Q) During the Week Ending July 18, 2009

The following Applications for Certificates of Public Convenience and Necessity and Foreign Air Carrier Permits were filed under Subpart B (formerly Subpart Q) of the Department of Transportation's Procedural Regulations (See 14 CFR 301.201 et. seq.). The due date for Answers, Conforming Applications, or Motions to Modify Scope are set forth below for each application. Following the Answer period DOT may process the application by expedited procedures. Such procedures may consist of the adoption of a show-cause order, a tentative order, or in appropriate cases a final order without further proceedings.

Docket Number: DOT-OST-2009-0163.

Date Filed: July 17, 2009.

Due Date for Answers, Conforming Applications, or Motion to Modify Scope: August 7, 2009.

Description: Application of TAP Portugal (“TAP”) requesting an amendment to its foreign air carrier permit so that the authority granted by such permit will reflect the full extent of the rights of Community airlines under the Air Transport Agreement between the United States and the European Community and the Member States of the European Community specifically, TAP seeks blanket open skies authority to enable TAP to engage in: (i) Scheduled and charter foreign air transportation of persons, property and mail from any point or points behind any Member State of the European Union via any point or points in any Member State and via intermediate points to any point or points in the United States and beyond; (ii) scheduled and charter foreign air transportation of persons, property and mail between any point or points in any member of the European Common Aviation Area and any point or points in the United States; (iii) scheduled and charter all-cargo foreign air transportation between any point or points in the United States and any other point or points; (iv) other charters subject to the Department's regulations; (v) and transportation authorized by any additional route rights made available to European Community airlines in the future. TAP also requests exemption authority to the extent necessary to enable it to engage in the above described operations pending issuance of an amended foreign air carrier permit.

Renee V. Wright,
Program Manager, Docket Operations, Federal Register Liaison.

[FR Doc. E9-18291 Filed 7-30-09; 8:45 am]

BILLING CODE 4910-9X-P